DEPARTMENT OF THE INTERIOR

National Park Service

[NPS-WASO-NRNHL-0112-9227; 2200-3200-665]

National Register of Historic Places; Notification of Pending Nominations and Related Actions

Nominations for the following properties being considered for listing or related actions in the National Register were received by the National Park Service before December 31, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye Street NW., 8th floor, Washington DC 20005; or by fax, (202) 371-6447. Written or faxed comments should be submitted by February 7, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CONNECTICUT

Fairfield County

United States Post Office, Westport, Connecticut, 154 Post Rd. E., Westport, 12000001

Hartford County

Vine Street Apartment Buildings, 4-48 Vine St, Hartford, 12000002

IOWA

Story County

Colonials Club House, 217 Ash Ave., Ames, 12000003

LOUISIANA

Rapides Parish

St. Philip's Episcopal Church, 414 Clara St., Boyce, 12000004

MINNESOTA

Goodhue County

Oakwood Cemetery, 1258 Cherry St., Red Wing, 12000005

Kandiyohi County

Lakeland Hotel, 407 Litchfield Ave. SW., 302 4th St. SW., Willmar, 12000006

NEW YORK

Albany County

Slingerlands Historic District, New Slingerlands & Mullens Rds., Bridge St., Slingerlands, 12000007

Bronx County

St. Stephen's Methodist Church, 146 W. 228th St., Bronx, 12000008

Erie County

Allentown Historic District (Boundary Increase), Portions of Delaware, Elmwood, S. Elmwood, Linwood, Normal, Plymouth, Porter, & Richmond Aves., Franklin, & Hudson Sts., Buffalo, 12000009

Huyler Building, The, 374 Delaware Ave., Buffalo, 12000010

Robertson—Cataract Electric Building, 100, 126 S. Elmwood, Buffalo, 12000011

Tishman Building, 447 Main St., 10 Lafayette Sq., Buffalo, 12000012

Herkimer County

Little Falls Historic District, Roughly bounded by W. Monroe, W. Gansevoort, Prospect, Garden, E. Main, N. William, & Looms St., Little Falls, 12000013

Monroe County

Central Trust Bank Building, 44 Exchange Rd., Rochester, 12000014

SOUTH CAROLINA

Pickens County

Williams—Ligon House, 1866 Farrs Bridge Rd., Easley, 12000015

Spartanburg County

Fowler, William Dixon, House, 5885 SC 215, Pauline, 12000016

VIRGINIA

Amherst County

Macedonia Methodist Church, 1408 Coffeytown Rd., Vesuvius, 12000017

Bland County

Updyke, Junius Marcellus, Farm, 4859 E. Bluegrass Trail, Bland, 12000018

Lynchburg Independent city

Fifth Street Historic District, 5th, 6th, Court, Clay, Madison, Harrison, Federal, Jackson, Polk, & Monroe Sts., Lynchburg (Independent City), 12000019

Prince George County

Church of the Sacred Heart Parish, 9300 Community Ln., Petersburg, 12000020

WISCONSIN

Clark County

Wisconsin Pavilion, 1201 E. Division St., Neillsville, 12000021

[FR Doc. 2012-1151 Filed 1-20-12; 8:45 am]

BILLING CODE 4312-51-P